DEPARTMENT OF VETERANS AFFAIRS

Solicitation of Nominations for Appointment to the Research Advisory Committee on Gulf War Veterans' Illnesses

AGENCY: Department of Veterans Affairs.

ACTION: Notice of nominations for appointment to the Research Advisory Committee on Gulf War Veterans' Illnesses.

SUMMARY: The Department of Veterans Affairs (VA) is seeking nominations of qualified candidates to be considered for appointment to the Research Advisory Committee on Gulf War Veterans' Illnesses (RACGWVI) (hereinafter in this section referred to as “the Committee”).

DATES: Nominations for membership on the Committee must be received no later than 5:00 p.m. EST on November 15, 2021.

ADDRESSES: All nominations should be emailed to varacgwvi@va.gov. Please write Nomination for RACGWVI Membership in the subject line.

FOR FURTHER INFORMATION CONTACT: Dr. Karen Block, Designated Federal Officer, Gulf War Research Program, VA Office of Research and Development, 202-443-5791 or at Karen.Block@va.gov. A copy of the Committee charter and list of the current membership can also be obtained by contacting Dr. Block.

SUPPLEMENTARY INFORMATION: The Research Advisory Committee on Gulf War Veterans' Illnesses was established to provide advice and make recommendations to the Secretary of Veterans Affairs on proposed research studies, plans and strategies related to understanding and treating the health consequences of military service in the Southwest Asia theater of operations during the 1990-91 Gulf War (Operations Desert Shield and Desert Storm).

Membership Criteria and Qualifications: VHA is requesting nominations for upcoming vacancies on the Committee. The Committee is comprised of approximately 12 members. Several members may be regular Government employees, but the majority of the Committee's membership shall consist of non-Federal employees, appointed by the Secretary from the general public, serving as Special Government employees.

The expertise required of Committee membership includes, but is not limited to:

a. Gulf War Veterans;

b. Representatives of such Veterans; and

c. Members of the medical and scientific communities representing appropriate disciplines such as, but not limited to, epidemiology, immunology, environmental health, neurology and toxicology.

Membership Requirements: The Committee meets at least once and up to three times annually. Individuals selected for appointment to the Committee shall be invited to serve a two to three-year term. The Secretary may reappoint Committee members for an additional term of service. Committee members will receive per diem and reimbursement for eligible travel expenses incurred. Self-nominations and nominations of non-Veterans will be accepted. Any letters of nomination from organizations or other individuals should accompany the package when it is submitted.

To the extent possible, the Secretary seeks members who have diverse professional and personal qualifications including but not limited to subject matter experts in the areas described above. We ask that nominations include any relevant experience information so that VA can ensure diverse Committee membership.

Requirements for Nomination Submission: Nominations must be typed (12-point font) and include:

(1) A letter of nomination that clearly states the name and affiliation of the nominee, the basis for the nomination (i.e., specific attributes which qualify the nominee for service in this capacity), and a statement from the nominee indicating that he/she is a U.S. citizen and is willing to serve as a member of the Committee;

(2) The nominee's contact information, including name, mailing address, telephone numbers, and email address;

(3) The nominee's resume or curriculum vitae that is no more than three pages in length. The resume should show professional work experience, and Veterans service involvement, especially service that involves Gulf War Veterans' issues; and

(4) A one-page cover letter. The cover letter must summarize:

a. The nominee's interest in serving on the committee and contributions she/he can make to the work of the committee;

b. any relevant Veterans service activities she/he is currently engaged in;

c. the military branch affiliations and timeframe of military service (if applicable);

d. information about the nominee's personal and professional qualifications and background that would give her/him a diverse perspective on Gulf War Veterans' matters; and

e. a statement confirming that she/he is not a Federally registered lobbyist.

The Department makes every effort to ensure that the membership of VA Federal advisory committees are diverse in terms of points of view represented and the committee's capabilities. Appointments to this Committee shall be made without discrimination because of a person's race, color, religion, sex, sexual orientation, gender identity, national origin, age, disability, or genetic information. Nominations must state that the nominee is willing to serve as a member of the Committee and appears to have no conflict of interest that would preclude membership.

The Committee is authorized by Public Law 105-368 § 104, and operates under the Federal Advisory Committee Act, 5 U.S.C. App. 2.

Dated: September 13, 2021.
LaTonya L. Small,
Federal Advisory Committee Management Officer.

[FR Doc. 2021-20077 Filed 9-16-21; 8:45 am]

BILLING CODE P